DEPARTMENT OF JUSTICE

Notice of Lodging of First Amendment to Consent Decree Under the Clean Water Act

Notice is hereby given that on October 21, 2010, a proposed First Amendment to Consent Decree (“First Amendment”) in United States and State of Ohio v. City of Toledo, Ohio, Civil Action No. 3:91:CV7646, was lodged with the United States District Court for the Northern District of Ohio.

In this action, on December 17, 2002, the Court approved and entered a Consent Decree between the United States and State of Ohio as plaintiffs and the City of Toledo (“Toledo”) as defendant, which required Toledo, among other matters, to develop and obtain approval from the United States and Ohio Environmental Protection Agencies (“EPA” and “Ohio EPA”), and, once approved, implement a long term control plan to reduce its discharges of combined sanitary sewage and stormwater into the Maumee and Ottawa Rivers and Swan Creek. The Consent Decree also required Toledo to make major improvements to and increase the capacity of its wastewater treatment plant. The First Amendment recognizes EPA and Ohio EPA's approval of Toledo's long term control plan and makes certain changes to Toledo's requirements to construct improvements at its wastewater treatment plant. In addition, the First Amendment requires Toledo to perform a study that evaluates how effectively Toledo's wet weather treatment facility, built pursuant to the Consent Decree, eliminates pathogens from the wastewater being treated.

The Department of Justice will receive for a period of thirty (30) days from the date of this publication comments relating to the First Amendment. Comments should be addressed to the Assistant Attorney General, Environment and Natural Resources Division, and either e-mailed to pubcomment-ees.enrd@usdoj.gov or mailed to P.O. Box 7611, U.S. Department of Justice, Washington, DC 20044-7611, and should refer to United States and State of Ohio v. City of Toledo, Ohio, D.J. Ref. 90-5-1-1-3554.

The First Amendment may be examined at the Office of the United States Attorney, Four Seagate, Suite 308, Toledo, OH 43604, and at U.S. EPA Region 5, 77 West Jackson Blvd., Chicago, IL 60604. During the public comment period, the First Amendment may also be examined on the following Department of Justice Web site, to http://www.usdoj.gov/enrd/Consent_Decrees.html. A copy of the First Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 4.00 (25 cents per page reproduction cost) payable to the U.S. Treasury or, if by e-mail or fax, forward a check in that amount to the Consent Decree Library at the stated address.

Maureen M. Katz,
Assistant Chief, Environmental Enforcement Section, Environment and Natural Resources Division.

[FR Doc. 2010-27407 Filed 10-28-10; 8:45 am]

BILLING CODE 4410-15-P